INTERNATIONAL TRADE COMMISSION

[Investigation Nos. 701-TA-525 and 731-TA-1260-1261 (Review)]

Certain Welded Line Pipe From Korea and Turkey

Determinations

On the basis of the record ¹ developed in the subject five-year reviews, the United States International Trade Commission (“Commission”) determines, pursuant to the Tariff Act of 1930 (“the Act”), that revocation of the countervailing duty order on certain welded line pipe from Turkey and the antidumping duty orders on certain welded line pipe from Korea and Turkey would be likely to lead to continuation or recurrence of material injury to an industry in the United States within a reasonably foreseeable time.

¹ The record is defined in § 207.2(f) of the Commission's Rules of Practice and Procedure (19 CFR 207.2(f)).

Background

The Commission instituted these reviews on November 2, 2020 (85 FR 69354) and determined on February 5, 2021 that it would conduct expedited reviews (86 FR 24889, May 10, 2021).

The Commission made these determinations pursuant to section 751(c) of the Act (19 U.S.C. 1675(c)). It completed and filed its determinations in these reviews on June 14, 2021. The views of the Commission are contained in USITC Publication 5202 (June 2021), entitled Certain Welded Line Pipe from Korea and Turkey, Inv. Nos. 701-TA-525 and 731-TA-1260-1261 (Review).

By order of the Commission.
Issued: June 14, 2021.
Lisa Barton,
Secretary to the Commission.

[FR Doc. 2021-13346 Filed 6-23-21; 8:45 am]

BILLING CODE 7020-02-P